ENVIRONMENTAL PROTECTION AGENCY

[EPA-HQ-OPPT-2011-0496; FRL-8876-3]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Chemical Substances Inventory (TSCA Inventory)) to notify EPA and comply with the statutory provisions pertaining to the manufacture of new chemicals. Under TSCA sections 5(d)(2) and 5(d)(3), EPA is required to publish in the Federal Register a notice of receipt of a premanufacture notice (PMN) or an application for a test marketing exemption (TME), and to publish in the Federal Register periodic status reports on the new chemicals under review and the receipt of notices of commencement (NOC) to manufacture those chemicals. This document, which covers the period from February 1, 2011 to April 22, 2011, and provides the required notice and status report, consists of the PMNs and TMEs, both pending or expired, and the NOC to manufacture a new chemical that the Agency has received under TSCA section 5 during this time period.

DATES: Comments identified by the specific PMN number or TME number, must be received on or before July 21, 2011.

ADDRESSES: Submit your comments, identified by docket identification (ID) number EPA-HQ-OPPT-2011-0496, and the specific PMN number or TME number for the chemical related to your comment, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. The DCO is open from 8 a.m. to 4 p.m., Monday through Friday, excluding legal holidays. The telephone number for the DCO is (202) 564-8930. Such deliveries are only accepted during the DCO's normal hours of operation, and special arrangements should be made for deliveries of boxed information.

Instructions: EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For technical information contact: Bernice Mudd, Information Management Division (7407M), Office of Pollution Prevention and Toxics, Environmental Protection Agency, 1200 Pennsylvania Ave., NW., Washington, DC 20460-0001; telephone number: (202) 564-8951; fax number: (202) 564-8955; e-mail address: mudd.bernice@epa.gov.

For general information contact: The TSCA-Hotline, ABVI-Goodwill, 422 South Clinton Ave., Rochester, NY 14620; telephone number: (202) 554-1404; e-mail address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action. If you have any questions regarding the applicability of this action to a particular entity, consult the person listed under FOR FURTHER INFORMATION CONTACT.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA taking this action?

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/opt/newchems.

Under TSCA sections 5(d)(2) and 5(d)(3), EPA is required to publish in the Federal Register a notice of receipt of a PMN or an application for a TME and to publish in the Federal Register periodic status reports on the new chemicals under review and the receipt of NOCs to manufacture those chemicals. This status report, which covers the period from February 1, 2011 to April 22, 2011, consists of the PMNs and TMEs, both pending or expired, and the NOCs to manufacture a new chemical that the Agency has received under TSCA section 5 during this time period.

III. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—149 PMNs Received From February 1, 2011 to April 22, 2011
Case No. | Received date | Projected notice end date | Manufacturer/ importer | Use | Chemical
P-11-0190 | 02/02/11 | 05/02/11 | CBI | (G) Paper additive | (G) Dialdehyde, reaction products with hydrolyzed n-vinylamide homopolymer hydrohalides.
P-11-0191 | 02/01/11 | 05/01/11 | CBI | (S) Ultra violet curable polymer for kitchen cabinets and office furniture finishes | (G) Ultra violet curable polyester polyurethane acrylate.
P-11-0192 | 02/02/11 | 05/02/11 | CBI | (G) Additive for paper | (G) Amphoteric polyacrylamide.
P-11-0193 | 02/02/11 | 05/02/11 | CBI | (G) Deposit control additive for fuels | (G) Poly alkyl amido hydrazide.
P-11-0194 | 02/02/11 | 05/02/11 | CBI | (G) Plasticizer | (S) 1,2,3-propanetricarboxylic acid, 2-(acetyloxy)-, 1,2,3-tris(2-ethylhexyl) ester.
P-11-0195 | 02/03/11 | 05/03/11 | 3M | (S) Prepolymer for sprayable adhesive/sealant; prepolymer for high viscosity adhesive/sealant | (G) Alkoxysilyl polyether prepolymer.
P-11-0196 | 02/08/11 | 05/08/11 | Croda Inc. | (G) Hard surface cleaner | (G) Quaternized ethylene oxide propylene oxide polymer.
P-11-0197 | 02/08/11 | 05/08/11 | CBI | (G) Colourant dispersant | (G) Acrylic polymer.
P-11-0198 | 02/08/11 | 05/08/11 | CBI | (G) Colourant dispersant | (G) Acrylic polymer.
P-11-0199 | 02/08/11 | 05/08/11 | CBI | (G) Colourant dispersant | (G) Acrylic polymer.
P-11-0200 | 02/07/11 | 05/07/11 | CBI | (G) Resin solution additive | (G) Aluminum alkoxide complex, alkoxylated aluminum chelate.
P-11-0201 | 02/09/11 | 05/09/11 | Lubrigreen | (G) Bio-based lubricant base oil | (S) Fatty acids, C8-18 and C18-unsaturated, reaction products with isomerized oleic acid homopolymer.
P-11-0202 | 02/09/11 | 05/09/11 | Lubrigreen | (G) Bio-based lubricant base oil | (S) Fatty acids, coco, reaction products with isomerized oleic acid homopolymer.
P-11-0203 | 02/09/11 | 05/09/11 | CBI | (G) Paper treatment | (G) Perfluoroalkylethyl methacrylate copolymer, salt.
P-11-0204 | 02/11/11 | 05/11/11 | CBI | (S) Brightener for nickel electroplating | (G) Acetaldehyde, substituted-, reaction products with 2-butyne-1,4-diol.
P-11-0205 | 02/15/11 | 05/15/11 | CBI | (G) Non-dispersive ink additive | (G) Polyalkene, maleated potassium salts.
P-11-0206 | 02/15/11 | 05/15/11 | Eastman Kodak Company | (G) Intermediate | (G) Bisaryl iodonium salt.
P-11-0207 | 02/15/11 | 05/15/11 | Eastman Kodak Company | (G) Contained use in an article | (G) Substituted aromatic borate salt.
P-11-0208 | 02/16/11 | 05/16/11 | Lubrigreen | (G) Lubricant base oil | (S) Fatty acids, C8-18 and C18-unsaturated, reaction products with isomerized oleic acid homopolymer 2-ethylhexyl ester.
P-11-0209 | 02/16/11 | 05/16/11 | Lubrigreen | (G) Lubricant base oil | (S) Fatty acids, coco, reaction products with isomerized oleic acid homopolymer 2-ethylhexyl ester.
P-11-0210 | 02/16/11 | 05/16/11 | Lubrigreen | (G) Lubricant base oil | (S) Fatty acids, C8-18 and C18-unsaturated, reaction products with isomerized oleic acid dimer 2-ethylhexyl ester.
P-11-0211 | 02/16/11 | 05/16/11 | Lubrigreen | (G) Lubricant base oil | (S) Fatty acids, coco, reaction products with isomerized oleic acid dimer 2-ethylhexyl ester.
P-11-0212 | 02/16/11 | 05/16/11 | Lubrigreen | (G) Lubricant base oil | (S) 9-octadecenoic acid (9z)-, homopolymer, isomerized.
P-11-0213 | 02/16/11 | 05/16/11 | Lubrigreen | (G) Lubricant base oil | (S) Fatty acids, C8-18 and C18-unsaturated, reaction products with isomerized oleic acid homopolymer.
P-11-0214 | 02/16/11 | 05/16/11 | Lubrigreen | (G) Lubricant base oil | (S) Fatty acids, coco, reaction products with isomerized oleic acid homopolymer.
P-11-0215 | 02/16/11 | 05/16/11 | CBI | (G) Base polymer for adhesive | (S) 2-propenoic acid, 2-methyl-, dodecyl ester, telomer with methyl 2-methyl-2-propenoate, tridecyl 2-methyl-2-propenoate, 3-(trimethoxysilyl)-1-propanethiol and 3-(trimethoxysilyl) propyl 2-methyl-2-propenoate.
P-11-0216 | 02/16/11 | 05/16/11 | CBI | (G) Base polymer for adhesive | (S) 2-propenoic acid, 2-methyl-, dodecyl ester, telomer with butyl 2-propenoate, methyl 2-methyl-2-propenoate, tridecyl 2-methyl-2-propenoate, 3-(trimethoxysilyl)-1-propanethiol and 3-(trimethoxysilyl) propyl 2-methyl-2-propenoate.
P-11-0217 | 02/17/11 | 05/17/11 | CBI | (G) Additive, open, non-dispersive | (G) Polyetherfluoro urethane.
P-11-0218 | 02/17/11 | 05/17/11 | CBI | (G) Radiation curing agent | (G) Benzenedioic acid, polymer with alkanediol and carboxyaminoalkyl carbamic acid alkoxyalkylester.
P-11-0219 | 02/18/11 | 05/18/11 | CBI | (G) Paint | (G) Alkyl acrylate, polymer with alkyl acrylate, alkyl methacrylates, and styrene, peroxide-initiated.
P-11-0220 | 02/18/11 | 05/18/11 | CBI | (G) Paint | (G) Alkyl acrylate, polymer with alkyl acrylate, alkyl methacrylates, and styrene, peroxide-initiated.
P-11-0221 | 02/18/11 | 05/18/11 | CBI | (G) Paint | (G) Alkyl acrylate, polymer with alkyl acrylate, alkyl methacrylates, and styrene, peroxide-initiated.
P-11-0222 | 02/18/11 | 05/18/11 | CBI | (G) Paint | (G) Alkyl acrylate, polymer with alkyl acrylate, alkyl methacrylates, and styrene, peroxide-initiated.
P-11-0223 | 02/18/11 | 05/18/11 | CBI | (G) Use as photoinitiator | (G) Substituted tris-phenyl thiophenyl-sulfonium halogenide.
P-11-0224 | 02/22/11 | 05/22/11 | CBI | (S) Electrolyte for battery | (G) Fluoro ether.
P-11-0225 | 02/23/11 | 05/23/11 | CBI | (G) Adhesive component | (S) Amines, C36-alkylenedi-, polymers with 6-aminohexanoic acid, 1,6-diisocyanato-2,2,4-trimethylhexane, 1,6-diisocyanato-2,4,4-trimethylhexane, 5,5'-[(1-methylethylidene)bis(4,1-phenyleneoxy)]bis[1,3-isobenzofurandione] and pyromellitic dianhydride, 2,5-dihydro-2,5-dioxo-1h-pyrrole-1-hexanoic acid-blocked.
P-11-0226 | 02/23/11 | 05/23/11 | CBI | (G) As a component of adhesives and Cosmetics | (G) N-(2-hydroxyethyl) alkenamide.
P-11-0227 | 02/23/11 | 05/23/11 | CBI | (G) Coatings | (G) Urethane acrylate.
P-11-0228 | 02/22/11 | 05/22/11 | CBI | (S) Used internally as raw material for polyamide manufacture | (G) Benzaldehyde, reaction products with polyalkylenepolyamines, hydrogenated.
P-11-0229 | 02/24/11 | 05/24/11 | H.B. Fuller | (G) Industrial adhesive | (G) Polyester, polymer with 1,4-butanediol, dodecanedioic, 1,6-heaxanediol, .alpha.-hydro-.omega.-hydroxypoly (oxy-1,4-butanediyl) and isocyanate.
P-11-0230 | 02/24/11 | 05/24/11 | Goulston technologies, Inc. | (G) Antistatic agent for acrylic yam | (G) Alkyl amine salt.
P-11-0231 | 02/25/11 | 05/25/11 | Cardolite Corporation | (S) Amine based epoxy curing agent for 2 part epoxy surface coating | (G) Cashew nutshell liquid amine polymer.
P-11-0232 | 02/28/11 | 05/28/11 | CBI | (G) Sealant and adhesive | (G) Acryloxy functional siloxane.
P-11-0233 | 02/25/11 | 05/25/11 | CBI | (S) Curing agent for epoxy resin | (G) Phenol, 4,4'-(1-methylethylidene)bis-, polymer with 2-(chloromethyl)oxirane, reaction products with n3-(3-(dimethylamino)propyl]-n1,n1-dimethyl-alkanepolyamine, compounds with formaldehyde-phenol polymer.
P-11-0234 | 03/01/11 | 05/29/11 | CBI | (G) Chemical intermediate | (G) Oligmeric phenolic ether.
P-11-0235 | 03/01/11 | 05/29/11 | CBI | (G) Ink, coating, adhesive | (G) Polyacrylate oligomer product from saturated dimer acid, propoxylated glycerol and acrylic acid.
P-11-0236 | 03/01/11 | 05/29/11 | CBI | (G) Ink, coating, adhesive | (G) Polyacrylate oligomer product from saturated dimer acid, propoxylated glycerol and acrylic acid.
P-11-0237 | 03/02/11 | 05/30/11 | Colonial Chemical, Inc. | (S) Oil dispersant | (S) D-glucopyranose, oligomeric, decyl octyl glycosides, polymer with 1,3-dichloro-2-propanol and sorbitan mono-(9z)-9-octadecenoate.
P-11-0238 | 03/01/11 | 05/29/11 | IGM Resins Inc. | (G) Ultra violet initiator | (S) Poly(oxy-1,2-ethanediyl), .alpha.-[2-(4-benzoylphenoxy)acetyl]-.omega.-[[2-(4-benzoylphenoxy)acetyl]oxy]-.
P-11-0239 | 03/02/11 | 05/30/11 | CBI | (G) Emulsifier | (G) Butanedioic acid, monopolyisobutylene derivates, (alkylimino)di-2,1-ethanediyl esters, compounds with akylamino alcohol(1:2).
P-11-0240 | 03/02/11 | 05/30/11 | CBI | (G) Component of an industrial adhesive | (G) Modified epoxy resin.
P-11-0241 | 03/04/11 | 06/01/11 | CBI | (G) Used to adjust (retard) set times in calcium sulfate based binders such as gypsum boards, plaster boards or wall boards | (S) L-lysine, n2, n6-bis (3-carboxy-1-oxopropyl)-, sodium salt (1:3).
P-11-0242 | 03/04/11 | 06/01/11 | Materia Inc. | (G) Resin formulation additive | (G) Hydroxy-olefin.
P-11-0243 | 03/07/11 | 06/04/11 | CBI | (G) Thermoplastic urethane | (G) Aliphatic thermoplastic urethane.
P-11-0244 | 03/07/11 | 06/04/11 | CBI | (G) Thermoplastic urethane | (G) Aliphatic thermoplastic urethane.
P-11-0245 | 03/07/11 | 06/04/11 | CBI | (G) Concrete additive | (G) Alkoxylate polymer, mono(alkenyl) ether.
P-11-0246 | 03/08/11 | 06/05/11 | Oleon Americas Inc. | (S) Emulsifier for commercial (I&I) and household floor cleaners | (S) D-xylopyranose, oligomeric, C16-18-alkyl glycosides.
P-11-0247 | 03/04/11 | 06/01/11 | CBI | (G) Treatment for textiles | (G) Perfluoroalkylethyl methacrylate copolymer.
P-11-0248 | 03/08/11 | 06/05/11 | CBI | (G) Printing additive | (G) Roin, polymer with ethylene glycol, propanediol, alkanedicarboxylic acid, terephthalic acid and trimellitic anhydride.
P-11-0249 | 03/08/11 | 06/05/11 | CBI | (G) Resin for use in coatings | (G) Acrylic latex.
P-11-0250 | 03/09/11 | 06/06/11 | Henkel Corporation | (S) Cure initiator in adhesive formulations | (S) Benzamide, n-(aminothioxomethyl)-.
P-11-0251 | 03/10/11 | 06/07/11 | CBI | (G) Printing inks | (G) Cycloaliphatic anhydride polymer with alkyldiol.
P-11-0252 | 03/10/11 | 06/07/11 | CBI | (G) Photografic chemical | (G) Benzeneacetonitrile, alkoxy-[[(alkylsulfonyl)oxy]imino]-.
P-11-0253 | 03/10/11 | 06/07/11 | Dow Chemical Company | (G) Detergents and cleaner additive | (G) Acrylic copolymer.
P-11-0254 | 03/09/11 | 06/06/11 | H.B. Fuller | (G) Industrial adhesive | (G) Alkanedioic acid, polymer with ethenyl acetate, alkyl 2-propenoate, and 2-propenoic acid.
P-11-0255 | 03/10/11 | 06/07/11 | Colonial Chemical, Inc. | (S) Hard surface cleaner in high caustic solutions | (S) D-glucopyranose, oligomeric, decyl octyl glycosides, 2,3-dihydroxypropyl ethers, phosphates, sodium salts, polymers with 1,3-dichloro-2-propanol.
P-11-0256 | 03/10/11 | 06/07/11 | Colonial Chemical, Inc. | (S) Hard surface cleaner in high caustic solutions | (S) D-glucopyranose, oligomeric, c10-16-alkyl glycosides, 2,3-dihydroxypropyl ethers, phosphates, sodium salts, polymers with 1,3-dichloro-2-propanol.
P-11-0257 | 03/10/11 | 06/07/11 | Nanotech Industries, Inc. | (S) Flooring; paints; top coating | (S) Carbamic acid, N,N'-(trimethyl-1,6-hexanediyl)bis-, ester with 1,2-propanediol (1:2).
P-11-0258 | 03/10/11 | 06/07/11 | CBI | (G) Curing agent for epoxy resin | (G) Epoxy and isocyanate modified aliphatic polyamine.
P-11-0259 | 03/04/11 | 06/01/11 | CBI | (G) Flexible packaging adhesive | (G) Polyether polyester polyurethane adhesive.
P-11-0260 | 03/11/11 | 06/08/11 | CBI | (G) Urethane adhesive | (G) Isocyanate-terminated prepolymer.
P-11-0261 | 03/16/11 | 06/13/11 | Global Tungsten and Powders Corp. | (S) Luminescent phosphor for use in fluorescent lamp manufacturing | (S) Aluminum barium europium magnesium oxide.
P-11-0262 | 03/16/11 | 06/13/11 | Global Tungsten and Powders Corp. | (S) Luminescent phosphor for use in fluorescent lamp manufacture | (S) Europium strontium borate metaphosphate oxide.
P-11-0263 | 03/15/11 | 06/12/11 | CBI | (G) Curing agent for epoxy resin | (G) Modified aliphatic polyamine.
P-11-0264 | 03/17/11 | 06/14/11 | CBI | (G) Flame retardant | (G) Brominated aromatic oligomer.
P-11-0265 | 03/17/11 | 06/14/11 | CBI | (G) Antistatic additive in polymers, antistatic additive in liquid resins | (G) Dialkyl imidazolium salt.
P-11-0266 | 03/17/11 | 06/14/11 | CBI | (G) Industrial lubricant | (G) Polypentaerythritol, mixed esters with straight and branched monoacids.
P-11-0267 | 03/18/11 | 06/15/11 | Hybrid Plastics, Inc. | (G) Thermoplastics and coatings additive; elastomer additive | (S) Tricyclo[7.3.3.15,11]heptasiloxane-3,7,14-triol-1,3,5,7,9,11,14-heptakis(2,4,4-trimethylpentyl)-.
P-11-0268 | 03/21/11 | 06/18/11 | CBI | (G) Flame retardant | (G) Phosphoric acid, diaryl alkyl ester.
P-11-0269 | 03/21/11 | 06/18/11 | CBI | (G) Optical material component | (G) Perfluorinated cyclo oxyaliphatic polymer.
P-11-0270 | 03/21/11 | 06/18/11 | Lockheed Martin | (S) Piezoelectric ceramics used for active and passive underwater acoustic systems | (S) Lead strontium titanium zirconium oxide.
P-11-0271 | 03/21/11 | 06/18/11 | Lockheed Martin | (S) Piezoelectric ceramics used for active and passive underwater acoustic systems. | (S) Calcium cobalt lead titanium tungsten oxide.
P-11-0272 | 03/21/11 | 06/18/11 | Lockheed Martin | (S) Piezoelectric ceramics used for active and passive underwater acoustic systems | (S) Calcium cobalt lead strontium titanium tungsten oxide.
P-11-0273 | 03/21/11 | 06/18/11 | Lockheed Martin | (S) Piezoelectric ceramics used for active and passive underwater acoustic systems | (S) Lanthanum lead titanium zirconium oxide.
P-11-0274 | 03/21/11 | 06/18/11 | Lockheed Martin | (S) Piezoelectric ceramics used for active and passive underwater acoustic systems | (S) Lead niobium titanium zirconium oxide.
P-11-0275 | 03/23/11 | 06/20/11 | CBI | (G) Coating applications | (G) Hydroxy alkyl alkyl acrylate, polymer with alkyl acrylate, aromatic vinyl monomer, dialkyl acrylate and alkyl alkyl acrylate.
P-11-0276 | 03/24/11 | 06/21/11 | Mane, USA | (G) Perfumery ingredient | (S) 1,5-cyclododecadiene, 10-methoxy-1,5,9-trimethyl- 1,5-cyclododecadiene, 9-methoxy-1,5,10-trimethyl- 1,5-cyclododecadiene, 9-methoxy-1,6,10-trimethyl- 1,5-cylcododecadiene, 9-methoxy-2,5,10-trimethyl-.
P-11-0277 | 03/24/11 | 06/21/11 | Zeon Chemicals L.P. | (S) Automotive seals and gaskets | (G) Modified acrylonitrile, butadiene polymer, hydrogenated.
P-11-0278 | 03/24/11 | 06/21/11 | Cytec Industries Inc. | (G) Coatings resin | (G) Heteromonocycle, polymer with disubstituted carbomonocyle and alkylene glycol, alkyl acrylate blocked.
P-11-0279 | 03/24/11 | 06/21/11 | CBI | (S) Automotive coatings | (G) Polyester resin.
P-11-0280 | 03/25/11 | 06/22/11 | Cytec Industries Inc. | (G) Coating resin | (G) Epoxy modified alkyd resin, partially neutralized.
P-11-0281 | 03/25/11 | 06/22/11 | CBI | (S) Lubricant additive for the purposes of anti corrosion, viscosity control and dispersant improver | (S) Fatty acids, lanolin, esters with cholesterol-low lanolin alcs.
P-11-0282 | 03/25/11 | 06/22/11 | CBI | (S) Lubricant additive for the purposes of anti corrosion, viscosity control and dispersant improver | (S) Fatty acids, C10-30, esters with cholesterol-low lanolin alcs.
P-11-0283 | 03/25/11 | 06/22/11 | 3M Company | (G) Surfactant | (G) Oleate.
P-11-0284 | 03/25/11 | 06/22/11 | 3M Company | (G) Surfactant | (G) Oleyl acrylate.
P-11-0285 | 03/28/11 | 06/25/11 | CBI | (G) Coating additive | (G) Acid anhydride, polymer with aromatic isocyanate and polyalkyleneglycol, alkanol and diazole alkanamine and lactone homopolymer alkyl ester-blocked.
P-11-0286 | 03/28/11 | 06/25/11 | CBI | (G) Open, non-dispersive | (G) Blocked polyester polyurethane, neutralized.
P-11-0287 | 03/28/11 | 06/25/11 | CBI | (G) Open, non-dispersive use | (G) Acrylic silane polymer.
P-11-0288 | 03/25/11 | 06/22/11 | CBI | (S) Photoinitiator | (G) Biphenyl alkyl morpholino ketone.
P-11-0289 | 03/28/11 |  | Oleon Americas Inc. | (S) Additive (tracer) for natural fats and oils | (S) Heptanoic acid, 1,2,3-propanetriyl ester (9ci).
P-11-0290 | 03/29/11 | 06/26/11 | Scnte LLC | (G) The material will be used as the sensor element in an electrochemical sensor. one carbon nanotube-sic device will be use per one sensor. the maximum estimated annual quantity of sensors will be 10,000. this completed sensor will be able to detect metals and nutrients in water | (G) Carbon nanotubes.
P-11-0291 | 03/28/11 | 06/25/11 | CBI | (G) For use as an exterior coating for food containers | (G) Polyester resin.
P-11-0292 | 03/29/11 | 06/26/11 | Colonial Chemical, Inc. | (S) Hard surface cleaner in high caustic solutions | (S) D-glucopyronase, oligomeric, decyl octyl glycosides, 2-hydroxy-3-sulfopropyl ethers, sodium salts, polymers with 1,3-dichloro-2-propanol.
P-11-0293 | 03/29/11 | 06/26/11 | Colonial Chemical, Inc. | (S) Hard surface cleaner in high caustic solutions | (S) D-glucopyronase, oligomeric, C10-16-alkyl glycosides, 2-hydroxy-3-sulfopropyl ethers, sodium salts, polymers with 1,3-dichloro-2-propanol.
P-11-0294 | 03/30/11 | 06/27/11 | CBI | (G) Open, non-dispersive use (polycarbonate) | (G) Polycarbonate.
P-11-0295 | 03/30/11 | 06/27/11 | CBI | (G) The PMN substance will be used as a component in detergents, a corrosion inhibitor in multiple applications, and a concrete additive | (G) Reaction product from the oxidation of D-glucose, neutralized with naoh.
P-11-0296 | 03/30/11 | 06/27/11 | CBI | (G) The PMN substance will be used as a component in detergents, a corrosion inhibitor in multiple applications, and a concrete additive | (G) Reaction products from the oxidation of d-glucose, neutralized with sodium hydroxide and potassium hydroxide.
P-11-0297 | 04/04/11 | 07/02/11 | CBI | (G) Open, non-dispersive use | (G) Azo dyestuff.
P-11-0298 | 04/04/11 | 07/02/11 | Dow Chemical Company | (S) Hardener for epoxy thermosetting coatings | (G) Ethoxylated epoxy amine polymer.
P-11-0299 | 04/04/11 | 07/02/11 | Dow Chemical Company | (S) Hardener for epoxy thermosetting coatings | (G) Polypropylene glycol, epoxy amine polymer.
P-11-0300 | 04/04/11 | 07/02/11 | CBI | (S) Reactant in the manufacture of polyurethane and polyisocyanurate rigid foams; polyol resin blend with additives for polyurethane b-side reactant | (G) Aromatic polyester polyol.
P-11-0301 | 04/04/11 | 07/02/11 | CBI | (S) Reactant in the manufacture of polyurethane and polyisocyanurate rigid foams; polyol resin blend with additives for polyurethane b-side reactant | (G) Aromatic polyester polyol
P-11-0302 | 04/04/11 | 07/02/11 | CBI | (S) Reactant in the manufacture of polyurethane and polyisocyanurate rigid foams; polyol resin blend with additives for polyurethane b-side reactant | (G) Aromatic polyester polyol.
P-11-0303 | 04/04/11 | 07/02/11 | CBI | (S) Reactant in the manufacture of polyurethane and polyisocyanurate rigid foams; polyol resin blend with additives for polyurethane b-side reactant | (G) Aromatic polyester polyol.
P-11-0304 | 04/04/11 | 07/02/11 | CBI | (S) Reactant in the manufacture of polyurethane and polyisocyanurate rigid foams; polyol resin blend with additives for polyurethane b-side reactant | (G) Aromatic polyester polyol.
P-11-0305 | 04/04/11 | 07/02/11 | King Industries, Inc. | (G) Resin modifier for thermoplastic polyurethane elastomers | (G) Polyester diol.
P-11-0306 | 04/04/11 | 07/02/11 | CBI | (S) Acrylic resin used in ultra violet curable inks and coatings | (G) Tertiary amine acrylate.
P-11-0307 | 04/04/11 | 07/02/11 | Cardolite Corporation | (S) Epoxy curing agent | (G) Cashew nutshell liquid amine polymer.
P-11-0308 | 04/05/11 | 07/03/11 | Dow Chemical Company | (G) Dispersant | (G) Acrylic polymer.
P-11-0309 | 04/06/11 | 07/04/11 | H.B. Fuller Company | (G) Industrial adhesive | (G) Hexanedioic acid, polymer with polyether polyol, 1,1'-methylenebis[4-isocyanatobenzene] and dihydroxydialkyl ether.
P-11-0310 | 04/06/11 | 07/04/11 | H.B. Fuller Company | (G) Industrial adhesive | (G) Hexanedioic acid, polymer with polyether polyol, 1,1'-methylenebis[isocyanatobenzene] and dihydroxydialkyl ether.
P-11-0311 | 04/06/11 | 07/04/11 | H.B. Fuller Company | (G) Industrial adhesive | (G) Hexanedioic acid, polymer with A-hydro-W-hydroxypoly [oxy (methyl-1,2-ethanediyl)], 1,1'-methylenebis[4-isocyanatobenzene], dihydroxydialkyl ether and dialkanol ether.
P-11-0312 | 04/06/11 | 07/04/11 | H.B. Fuller Company | (G) Industrial adhesive | (G) Hexanedioic acid, polymer with A-hydro-W-hydroxypoly [oxy (methyl-1,2-ethanediyl)], 1,1'-methylenebis[isocyanatobenzene], dihydroxydialkyl ether and dialkanol ether.
P-11-0313 | 04/06/11 | 07/04/11 | H.B. Fuller Company | (G) Industrial adhesive | (G) Hexanedioic acid, polymer with A-hydro-W-hydroxypoly [oxy (methyl-1,2-ethanediyl)], 1,1'-methylenebis[4-isocyanatobenzene], and dihydroxydialkyl ether, reaction products with dialkylcarbinol.
P-11-0314 | 04/06/11 | 07/04/11 | H.B. Fuller Company | (G) Industrial adhesive | (G) Hexanedioic acid, polymer with A-hydro-W-hydroxypoly [oxy (methyl-1,2-ethanediyl)], 1,1'-methylenebis[isocyanatobenzene] , and dihydroxydialkyl ether, reaction products with dialkylcarbinol.
P-11-0315 | 04/07/11 | 07/05/11 | K+A North America | (S) Fertilizer additive | (S) 1H-pyrazole, 3,4-dimethyl-, phosphate(1:1).
P-11-0316 | 04/07/11 | 07/05/11 | Ascend Performance Materials, LLC | (G) Industrial solvent, in (closed and open systems. accelerant in permitted industrial explosives | (S) Cyclohexane, oxidized, by-products from, distillation residues.
P-11-0317 | 04/08/11 | 07/06/11 | Lubrizol Corporation | (G) Lubricant additive | (G) Formaldehyde, reaction products with ethylene-maleic anhydride-propene polymer, aryl amine and succinic anhydride monopolyisobutylene derivates.
P-11-0318 | 04/11/11 | 07/09/11 | CBI | (G) Additive | (G) Perfluoro multiphenylbenzene.
P-11-0319 | 04/11/11 | 07/09/11 | CBI | (G) Additive, open, non-dispersive | (G) Polyester polyether urethane block copolymer.
P-11-0320 | 04/11/11 | 07/09/11 | CBI | (G) Additive, open, non-dispersive | (G) Polyester polyether urethane block copolymer.
P-11-0321 | 04/11/11 | 07/09/11 | CBI | (G) Additive, open, non-dispersive | (G) Polyester polyether urethane block copolymer.
P-11-0322 | 04/11/11 | 07/09/11 | CBI | (G) Additive, open, non-dispersive | (G) Siloxanes and silicones, methyl alkyl, polyether modified.
P-11-0323 | 04/11/11 | 07/09/11 | CBI | (G) Additive, open, non-dispersive | (G) Siloxanes and silicones, methyl alkyl, polyether modified.
P-11-0324 | 04/11/11 | 07/09/11 | CBI | (G) Additive, open, non-dispersive | (G) Siloxanes and silicones, methyl alkyl, polyester modified.
P-11-0325 | 04/13/11 | 07/11/11 | CBI | (G) Battery component manufacturing | (G) Beta alumina powder.
P-11-0326 | 04/13/11 | 07/11/11 | CBI | (G) Cleaning additive for cpu manufacturing | (G) Glycerylether.
P-11-0327 | 04/14/11 |  | Kior | (G) Distillation feedstock after hydrotreatment | (S) Distillates (lignocellulosic), C5-40.
P-11-0328 | 04/14/11 |  | Kior | (G) Feedstock | (S) Parraffin waxes (lignocellulosic), hydrotreated, C5-40-branched, cyclic and linear.
P-11-0329 | 04/14/11 |  | Kior | (S) Hydrotreated lignocellulosic naphtha will be used as blendstock for conventional fossil fuels | (S) Naphtha (lignocellulosic), hydrotreated, C5-12-branched, cyclic and linear.
P-11-0330 | 04/14/11 |  | Kior | (S) Hydrotreated lignocellulosic kerosene will be used as blendstock for conventional fossil fuels | (S) Kerosine (lignocellulosic), hydrotreated, C8-16-branched,cyclic and linear.
P-11-0331 | 04/14/11 |  | Kior | (S) Hydrotreated lignocellulosic distillate will be used as blendstock for conventional fossil fuels | (S) Distillates (lignocellulosic), hydrotreated, C8-26-branched, cyclic, and linear.
P-11-0332 | 04/14/11 |  | Kior | (S) Intended for use in a manner comparable to gas oil as it is currently used in industry | (S) Residual oils (lignocellulosic), hydrotreated, C20-40-branched, cyclic and linear.
P-11-0333 | 04/14/11 |  | CBI | (G) Component of industrial coating | (G) Phosphated polyester.
P-11-0334 | 04/15/11 |  | CBI | (G) An open non-dispersive use in ink | (G) Aliphatic and alicyclic alcohol type polyester.
P-11-0335 | 04/15/11 |  | CBI | (G) Cross-linker | (G) Methyl, phenyl, amino-functional siloxanes and silsesquioxane.
P-11-0337 | 04/19/11 |  | CBI | (S) Ingredient in fragance compound | (S) 4,7-decadienal.
P-11-0338 | 04/21/11 |  | CBI | (S) Photoinitiator | (G) Biphenyl alkyl morpholino ketone.
P-11-0339 | 04/22/11 | 07/20/11 | Southwest Nanotechnologies Inc. | (S) Additives for resins, thermoplastics, and elastomers for mechanical reinforcement and enhanced electrical properties; coatings on metallic foils for battery applications; manufacture of fabric composites using mwnt | (S) Multi-wall carbon nanotube also know as—mwnt (multi-wall carbon nanotube), smwcnt (specialty multi-wall carbon nanotube), and smwxxx and where xxx represents our identifier for a new generation of the same products.
P-11-0340 | 04/22/11 | 07/20/11 | CBI | (G) Reactant | (G) Formaldehyde polymer with reaction products of alkylated phenol and polyalkyltriamine.

In Table II. of this unit, EPA provides the following information (to the extent that such information is not claimed as CBI) on the TMEs received by EPA during this period: The EPA case number assigned to the TME, the date the TME was received by EPA, the projected end date for EPA's review of the TME, the submitting manufacturer/importer, the potential uses identified by the manufacturer/importer in the TME, and the chemical identity.

Table II—2 TMEs Received From February 1, 2011 to April 22, 2011
Case No. | Received date | Projected review end date | Manufacturer/importer | Use | Chemical
T-11-0007 | 03/24/11 | 05/07/11 | Cytec Industries Inc | (G) Coating resin | (G) Heteromonocycle, polymer with substituted carbomonocycle and alkylene glycol, alkyl acrylate blocked.
T-11-0008 | 03/25/11 | 05/08/11 | Cytec Industries Inc | (G) Coating resin | (G) Epoxy modified alkyd resin, partially neutralized.

In Table III. of this unit, EPA provides the following information (to the extent that such information is not claimed as CBI) on the NOCs received by EPA during this period: The EPA case number assigned to the NOC, the date the NOC was received by EPA, the projected end date for EPA's review of the NOC, and chemical identity.

Table III—122 NOCs Received From February 1, 2011 to April 22, 2011
Case No. | Received date | Commencement notice end date | Chemical
P-00-0141 | 02/03/11 | 01/23/11 | (S) L-aspartic acid, N,N′-1,2-ethanediylbis-, magnesium salt.
P-00-0142 | 02/03/11 | 01/23/11 | (S) L-aspartic acid, N,N′-1,2-ethanediylbis-, magnesium sodium salt.
P-00-0145 | 02/03/11 | 01/23/11 | (S) L-aspartic acid, N,N′-1,2-ethanediylbis-, magnesium sodium salt (1:1:1).
P-01-0932 | 03/08/11 | 03/04/11 | (G) Aliphatic epoxide.
P-02-0249 | 04/04/11 | 03/23/11 | (S) Fatty acids, C16-18 and C18-unsatd., me esters, epoxidized.
P-04-0479 | 04/19/11 | 04/04/11 | (G) Mixture containing alcohols, aminoalcohols and their sodium salts.
P-04-0575 | 04/01/11 | 02/23/11 | (G) Alkoxyated dihalogenated aromatic heterocycle.
P-04-0670 | 04/01/11 | 03/15/11 | (G) Poly(alkoxy aromatic heterocycle).
P-05-0267 | 02/14/11 | 01/31/11 | (G) Polydimethyl fluoroalkyl hydrogen siloxane.
P-06-0255 | 04/06/11 | 03/14/11 | (S) Fatty acids, C18-unsatd., dimers, hydrogenated, polymers with 1,4-cyclohexanedicarboxylic acid, polyethylene-polypropylene glycol bis(2-aminopropyl) ether, polypropylene glycol diamine and propionic acid.
P-06-0394 | 03/31/11 | 03/03/11 | (G) Epoxy acrylate oligomer.
P-06-0702 | 02/01/11 | 01/28/11 | (G) Substituted aliphatic amine.
P-07-0010 | 04/04/11 | 03/25/11 | (G) Styrene-maleic anhydride copolymer, reaction products with polyether, salt with alkanolamin.
P-07-0090 | 03/31/11 | 03/03/11 | (G) Aliphatic urethane acrylate oligomer.
P-07-0257 | 02/15/11 | 02/07/11 | (G) Aqueous, aliphatic polyether polyurethane dispersion polymer.
P-07-0407 | 02/10/11 | 01/29/11 | (G) Fatty acid polymer with aliphatic diol and aromatic diacid.
P-07-0601 | 02/17/11 | 01/27/11 | (G) Hydrofluoroolefin.
P-08-0080 | 03/14/11 | 11/18/10 | (G) Amine salt of polyester polyol, cycloaliphatic glycol, hydroxy substituted carboxylic acid, alkyldiamine and aliphatic diisocyanate.
P-08-0524 | 03/31/11 | 03/03/11 | (G) Unsaturated polyester.
P-08-0545 | 03/11/11 | 03/02/11 | (G) Surface-active, blocked isocyanate polymer.
P-08-0558 | 03/31/11 | 03/03/11 | (G) Polyurethane acrylate.
P-08-0664 | 02/14/11 | 02/04/11 | (G) Fluorinated acrylic copolymer.
P-09-0029 | 03/31/11 | 03/03/11 | (G) Polyester acrylate.
P-09-0162 | 03/08/11 | 02/24/11 | (G) Styrenic polymers.
P-09-0175 | 03/04/11 | 02/27/11 | (G) Aqueous polyurethane resin dispersion.
P-09-0209 | 03/01/11 | 02/14/11 | (S) Poly(oxy-1,2-ethanediyl), .alpha.-undecyl-.omega.-hydroxy-, branched and linear, ethers with 1,2-decanediol (1:1).
P-09-0258 | 03/31/11 | 03/03/11 | (G) Bis-phenoxyethanol fluorene diacrylate.
P-09-0359 | 03/31/11 | 03/03/11 | (G) Methylene bis-(4-cyclohexylisocyanate), oligomeric reaction products with polyester polyol and hydroxyethyl acrylate and 2,2-bis(hydroxymethyl) propionic acid, compound with amine.
P-09-0360 | 03/31/11 | 03/03/11 | (G) Methylene bis-(4-cyclohexylisocyanate), oligomeric reaction products with polyester polyol and hydroxyethyl acrylate and 2,2-bis(hydroxymethyl) propionic acid.
P-09-0391 | 02/01/11 | 01/10/11 | (G) Polyamide epichlorohydrin resin salt (PMN substances A-F).
P-09-0403 | 03/31/11 | 03/03/11 | (G) Alkyd resin.
P-09-0505 | 02/18/11 | 02/16/11 | (G) Aliphatic urethane acrylate.
P-09-0533 | 03/08/11 | 02/28/11 | (S) Siloxanes and silicones, me hydrogen, me 3-(2-oxiranylmethoxy)propyl, ethoxy- and methoxy-terminated.
P-09-0568 | 03/22/11 | 03/14/11 | (G) Formaldehyde, polymer with 2-(chloromethyl)oxirane, polyoxyalkane, and phenols.
P-10-0079 | 04/19/11 | 04/14/11 | (G) Substituted naphthalene mixed salt.
P-10-0179 | 04/19/11 | 04/13/11 | (G) Polymer of tall oil fatty acid, aliphatic diols, aliphatic polyols, and aromatic acids.
P-10-0232 | 02/22/11 | 02/09/11 | (G) Polycarboxylic acid/polysulfonate derivative.
P-10-0269 | 03/01/11 | 02/07/11 | (G) Polymer of aromatic dicarboxylic acid and alkane diamine.
P-10-0282 | 01/31/11 | 01/12/11 | (G) Maleated nylon graft copolymer.
P-10-0326 | 02/22/11 | 01/26/11 | (S) Propane, 1,1,1,2,3,3-hexafluoro-.
P-10-0327 | 03/04/11 | 02/08/11 | (S) 1-propene, 1,2,3,3,3-pentafluoro-.
P-10-0338 | 02/22/11 | 02/10/11 | (G) Acrylate copolymer.
P-10-0339 | 02/22/11 | 01/31/11 | (G) Acrylate copolymer.
P-10-0342 | 04/07/11 | 03/07/11 | (G) Poly 2-ethylhexyl methacrylate.
P-10-0343 | 02/09/11 | 01/15/11 | (G) Substituted cyclomethacrylate.
P-10-0358 | 02/18/11 | 02/14/11 | (G) Polycyclic polyamine diester organometallic compound.
P-10-0374 | 02/08/11 | 02/01/11 | (G) Modified polyalkylene polyamine reacted with bisphenol a diglycidyl ether 1 and modified epoxy resin.
P-10-0399 | 02/24/11 | 02/21/11 | (G) Styrene-maleinate copolymer.
P-10-0406 | 03/10/11 | 03/08/11 | (G) Alkene acrylate copolymer.
P-10-0423 | 02/01/11 | 01/24/11 | (S) Benzenesulfonic acid 3,3′-[(9,10-dihydro-5,8-dihydroxy-9,10-dioxo-1,4-anthracenediyl)dimino]bis[6-butyl-], disodium salt.
P-10-0435 | 04/07/11 | 03/24/11 | (G) Substituted anthraquionone derivative.
P-10-0454 | 02/22/11 | 01/26/11 | (S) 1,3-divinyl imidazolidin-2-one.
P-10-0455 | 02/15/11 | 02/10/11 | (G) Hexahalosubstituted alkane.
P-10-0456 | 03/28/11 | 03/14/11 | (G) Alkenes, polymer with anhydride esters.
P-10-0457 | 02/15/11 | 01/26/11 | (G) Pentahalosubstituted alkane.
P-10-0460 | 03/18/11 | 03/02/11 | (G) Fatty acids, reaction product with adipic and trifunctional alcohol.
P-10-0489 | 02/15/11 | 02/14/11 | (G) Pentahalosubstituted alkene.
P-10-0496 | 03/21/11 | 02/27/11 | (G) Poly acrylate.
P-10-0501 | 02/09/11 | 01/17/11 | (G) Substituted pyridone.
P-10-0517 | 02/17/11 | 02/15/11 | (S) Oxirane, 2-ethyl-, polymer with oxirane, mono-C12-14-sec-alkyl ethers.
P-10-0536 | 04/01/11 | 03/26/11 | (G) Styrene-maleic anhydride copolymer, reaction product with amino compounds.
P-10-0546 | 02/15/11 | 01/15/11 | (G) Modified lithium iron phosphate.
P-10-0547 | 03/30/11 | 01/29/11 | (G) Vegetable oil, modified products.
P-10-0548 | 03/30/11 | 02/15/11 | (G) Vegetable oil, modified products.
P-10-0549 | 03/30/11 | 02/14/11 | (G) Vegetable oil, modified products.
P-10-0557 | 04/01/11 | 03/26/11 | (G) Aromatic polyester.
P-10-0562 | 03/23/11 | 03/16/11 | (G) Alkyl methacrylates, polymer with alkyl acrylates, styrene, hydroxyalkyl methacrylates, epoxypropyl acrylates and polyalkene glycol hydrogen sulfate, alkyloxyalkyl alkenyloxy alkyl, ammonium salt.
P-10-0570 | 04/01/11 | 03/26/11 | (G) Polyester.
P-10-0576 | 04/19/11 | 04/09/11 | (G) Alkyloxypropyliminodipropionic acid, monosodium salt.
P-10-0577 | 03/18/11 | 02/24/11 | (G) Polyamideimide.
P-10-0578 | 03/23/11 | 03/16/11 | (G) Alkylenealkanedioic acid, polymer with alkenylbenzene and alkenenitrile, ammonium salt, alkylhydroperoxide-initiated.
P-10-0580 | 03/11/11 | 02/28/11 | (G) Hetromonocyclic[3,4-b]thiophene, homopolymer, 2-[1-[difluoro[(1,2,2-trifluoroethenyl)oxy]methyl]-1,2,2,2-tetrafluoroethoxy]-1,1,2,2-tetrafluoroethyoxy]-1,1,2,2-tetrafluoroethanesulfonic acid-tetrafluoroethylene polymer-doped.
P-10-0582 | 03/08/11 | 02/03/11 | (G) Isocyanate terminated urethane polymer.
P-10-0583 | 03/08/11 | 02/24/11 | (G) Isocyanate terminated urethane polymer.
P-10-0584 | 03/08/11 | 02/02/11 | (G) Isocyanate terminated urethane polymer.
P-10-0585 | 03/08/11 | 02/17/11 | (G) Isocyanate terminated urethane polymer.
P-10-0586 | 01/31/11 | 01/05/11 | (G) Isocyanate terminated urethane polymer.
P-10-0587 | 01/31/11 | 01/06/11 | (G) Isocyanate terminated urethane polymer.
P-10-0589 | 02/22/11 | 01/31/11 | (G) Dibasic acid ester.
P-10-0593 | 02/04/11 | 01/10/11 | (G) Modified starch.
P-11-0001 | 02/17/11 | 02/09/11 | (G) Aromatic polyisocyanate, aliphatic polyol blocked.
P-11-0010 | 02/04/11 | 01/05/11 | (G) Fatty acid modified polyester aliphatic polyurethane dispersion.
P-11-0011 | 02/09/11 | 02/04/11 | (G) Polyol blocked cycloaliphatic amine polymer.
P-11-0013 | 02/11/11 | 02/09/11 | (G) Alkyl dioic acid, polymer with substituted alkanoate, alkyl diisocyanate, alkyldiol, and substituted alkanoic acid.
P-11-0017 | 03/07/11 | 02/18/11 | (G) Aromatic diacid, polymer with polyol, alkyl triol, alkyl alkanoate.
P-11-0019 | 04/07/11 | 03/28/11 | (G) Mercapto silane ester of silica.
P-11-0023 | 04/07/11 | 03/29/11 | (S) Boron, trifluoro(tetrahydrofuran)-, (t-4)-, polymer with 3-methyl-3-[(2,2,2-trifluoroethoxy)methyl]oxetane, ether with 2,2-dimethyl-1,3-propanediol (2:1).
P-11-0024 | 04/11/11 | 03/18/11 | (S) Boron, trifluoro(tetrahydrofuran)-, (t-4)-, polymer with 3-methyl-3-[(2,2,3,3,3-pentafluoropropoxy)methyl]oxtane, ether with 2,2-dimethyl-1,3-propanediol (2:1).
P-11-0029 | 03/28/11 | 03/25/11 | (S) Cyclopentene, 1,3,3,4,4,5,5-heptafluoro-.
P-11-0030 | 02/23/11 | 02/11/11 | (G) Waterborne polyurethane.
P-11-0041 | 02/22/11 | 02/11/11 | (S) Oxirane, 2-ethyl-, polymer with 2-methyloxirane, monododecyl ether.
P-11-0051 | 04/05/11 | 03/09/11 | (G) Amino methacrylate copolymer.
P-11-0054 | 03/23/11 | 02/28/11 | (S) 2H-pyran-4-ol, 2-(1-ethylpropyl) tetrahydro-4-methyl.
P-11-0056 | 03/31/11 | 03/03/11 | (G) Aliphatic urethane acrylate polymer.
P-11-0057 | 03/31/11 | 03/03/11 | (G) Aliphatic urethane acrylate polymer.
P-11-0061 | 03/04/11 | 02/23/11 | (G) Reaction product of substituted naphthalenesulfonic acid diazotized and couple with substituted triazine and substituted naphthalenesulfonic acid alkyl amino phenyl compound.
P-11-0062 | 04/19/11 | 04/07/11 | (G) Carbomonocyclic alkene polymer with alkyl alkenoate, alkyl alkenoate, alkyl alkenoate, alkyl alkenoate, polyalkylidene alkenoate and dialkylaminoalkyl alkenamide.
P-11-0065 | 02/24/11 | 02/16/11 | (G) Alkyl methacrylate.
P-11-0068 | 03/28/11 | 03/09/11 | (G) Polyester polyamide.
P-11-0070 | 03/10/11 | 03/09/11 | (S) Siloxanes and silicones, me hydrogen, me vinyl.
P-11-0071 | 03/10/11 | 02/23/11 | (S) Siloxanes and silicones, di-ph, me hydrogen, me vinyl.
P-11-0073 | 02/15/11 | 02/10/11 | (G) Alkylxylene.
P-11-0083 | 04/01/11 | 03/28/11 | (G) Reaction product of substituted naphthalenesulfonic acid and substituted benzenesulfonic acid diazotized and coupled with alkyl benzene substituted triazine amino phenyl compound.
P-11-0094 | 04/05/11 | 03/13/11 | (G) 2-naphthalenecarboxylic acid, substituted diazenyl calcium salt.
P-11-0095 | 03/23/11 | 03/21/11 | (S) Tricyclo[7.3.3.15,11]heptasiloxane-3,7,14-triol, 1,3,5,7,9,11,14-heptaphenyl.
P-11-0096 | 03/22/11 | 03/15/11 | (S) 1,4-benzenedicarboxylic acid, 1,4-dimethyl ester, polymer with 1,4-cyclohexanedimethanol and 2,2,4,4-tetramethyl-1,3-cyclobutanediol, manufacture of, by-products from, reaction products with ethylene glycol, polymers with 1,4-cyclohexanedimethanol, diethylene glycol, ethylene glycol, maleic anhydride and phthalic anhydride, 3a,4,5,6,7,7a-hexahydro-4,7-methano-1h-inden-5(or 6)-yl esters.
P-11-0099 | 04/01/11 | 03/24/11 | (G) Condensation sodium/potassium salt reaction product of substituted naphthalene sulfonic acid azo substituted phenyl amino substituted triazine and alkylsulfonyl benzenesulfonic acid azo substituted phenylamino substituted triazine.
P-11-0110 | 04/19/11 | 03/25/11 | (G) Tertiary ammonium compound.
P-11-0112 | 04/20/11 | 04/13/11 | (G) Modified epoxy resin.
P-11-0113 | 04/12/11 | 03/28/11 | (G) Heteromonocyclo, 4-methyl-, oxide, methanesulfonate salt.
P-11-0115 | 03/28/11 | 03/17/11 | (G) Mdi modified polyester resin.
P-11-0126 | 04/16/11 | 04/13/11 | (S) 1,3-benzenedicarboxylic acid, polymers with by-products from manuf. of 1,4-cyclohexanedimethanol-di-me terephthalate-2,2,4,4-tetramethyl-1,3-cyclobutanediol polymer-ethylene glycol reaction products, 1,4-cyclohexanedimethanol, diethylene glycol, ethylene glycol, maleic anhyride and triethylene glycol.
P-11-0127 | 04/12/11 | 03/16/11 | (G) Epoxidized fatty acids, unsaturated, me esters, polymers with trimethylolpropane.
P-11-0134 | 04/19/11 | 04/08/11 | (G) Carbomonocyclic alkene polymer with alkyl alkenoate, alkyl alkenoate, alkyl alkenoate, alkyl alkenoate, polyalkylidiene alkenoate and heteromonocyclic alkene.
P-11-0143 | 04/08/11 | 04/04/11 | (G) Acrylic polymer.
P-11-0155 | 03/21/11 | 03/18/11 | (G) Polymer substituted anthraquinone derivative.
P-98-0317 | 04/08/11 | 03/01/11 | (G) Substituted cyclic olefin.
P-11-0127 | 04/12/11 | 03/16/11 | (G) Epoxidized fatty acids, unsaturated, me esters, polymers with trimethylolpropane.
P-11-0134 | 04/19/11 | 04/08/11 | (G) Carbomonocyclic alkene polymer with alkyl alkenoate, alkyl alkenoate, alkyl alkenoate, alkyl alkenoate, polyalkylidiene alkenoate and heteromonocyclic alkene.
P-11-0143 | 04/08/11 | 04/04/11 | (G) Acrylic polymer.
P-11-0155 | 03/21/11 | 03/18/11 | (G) Polymer substituted anthraquinone derivative.
P-98-0317 | 04/08/11 | 03/01/11 | (G) Substituted cyclic olefin.

If you are interested in information that is not included in these tables, you may contact EPA as described in Unit II. to access additional non-CBI information that may be available.

List of Subjects

Environmental protection, Chemicals, Hazardous substances, Imports, Notice of commencement, Premanufacturer, Reporting and recordkeeping requirements, Test marketing exemptions.

Dated: June 8, 2011.
Chandler Sirmons,
Acting Director, Information Management Division, Office of Pollution Prevention and Toxics.

[FR Doc. 2011-15246 Filed 6-17-11; 11:15 am]

BILLING CODE 6560-50-P